ENVIRONMENTAL PROTECTION AGENCY

40 CFR Part 450

[FRL-7008-7]

RIN 2040-AD42

Effluent Limitations Guidelines and New Source Performance Standards for the Construction and Development Point Source Category; Announcement of Meetings

AGENCY: Environmental Protection Agency (EPA).

ACTION: Notice, announcement of meetings.

SUMMARY: EPA will conduct informational meetings on the upcoming Construction and Development (C&D) Effluent Guidelines proposed rulemaking. The Agency will provide an overview of the C&D project. EPA intends to propose effluent guidelines and standards for the C&D category in March 2002. The meetings are open to the public, and limited seating is available on a first-come, first-served basis.

DATES: See SUPPLEMENTARY INFORMATION section for meeting dates.

ADDRESSES: See SUPPLEMENTARY INFORMATION section for meeting locations.

FOR FURTHER INFORMATION CONTACT: Eric Strassler, Engineering and Analysis Division (4303), EPA Office of Water, 1200 Pennsylvania Avenue, NW, Washington, DC 20460; telephone (202) 260-7150; e-mail: strassler.eric@epa.gov.

SUPPLEMENTARY INFORMATION: EPA is developing proposed effluent limitations guidelines and standards for the C&D Point Source Category under authority of the Clean Water Act (33 U.S.C. 1251 et seq.). The C&D effluent guidelines will establish technology-based standards for discharges from construction sites regulated by the National Pollutant Discharge Elimination System (NPDES). The C&D rule will cover construction activities associated with new development and re-development. The regulations will address stormwater runoff from construction sites during the active phase of construction, as well as post-construction runoff. The industrial sectors which are being examined during the rulemaking include residential buildings, non-residential buildings, heavy construction, and land development. Additional information is available on the C&D website at http://www.epa.gov/ost/guide/construction/.

The meetings will provide an update on the development of the proposed rule. EPA will discuss the data collection efforts, the potential technology options, and the schedule for the C&D rulemaking. The meetings are not a mechanism for submitting formal comments. The meetings will not be recorded by a reporter nor transcribed for inclusion in the administrative record for the C&D rulemaking. Limited seating is available on a first-come, first-served basis.

A more detailed agenda and other documents related to the C&D project will be available at the meetings. For those unable to attend a meeting, EPA will make documents available at the EPA website listed above, and they can be obtained by an e-mail or telephone request to Eric Strassler at the above address.

Meeting Times and Locations

1. Tuesday, July 24, 2001, 9:00 am to 12:00 noon. EPA Education Center Auditorium, Waterside Mall, 401 M Street, SW., Washington, DC. Directions: The Auditorium is located on the ground floor at the rear of the Waterside Mall complex. Limited parking is available in the vicinity of the mall. EPA recommends that attendees travel by Metro subway to the Waterfront station (Green line). Upon exiting the Metro station, enter Waterside Mall, proceed to the rear exit (I Street), and turn left to reach the EPA Education Center.

2. Wednesday, August 1, 2001, 9:00 am to 12:00 noon. Executive Tower Hotel, 1405 Curtis Street, Denver, CO. For information on accommodations and directions to the hotel, please telephone 800-525-6651 or see the hotel website at http://www.exectowerhotel.com.

Dated: June 28, 2001.
Louise P. Wise,
Acting Director, Office of Science and Technology.

[FR Doc. 01-16953 Filed 7-5-01; 8:45 am]

BILLING CODE 6560-50-P